Proclamation 10194 of April 30, 2021

National Physical Fitness and Sports Month, 2021

By the President of the United States of America

A Proclamation

Despite the unprecedented challenges and disruptions of the past year, we continue to see examples of Americans finding innovative ways to stay active and healthy. Some have moved their workouts into their living rooms or garages. Others have taken up new sports. Many have simply rediscovered the satisfaction of a walk through their neighborhood. Despite this creativity, far too many people struggle to incorporate regular physical activity into their daily lives. Socioeconomic disparities, lack of opportunities for safe play, and limited access to programs for increased activity are just a few of the inequities that many Americans face—inequities that have been further exacerbated by the pandemic. During this National Physical Fitness and Sports Month, we encourage all Americans to stay active for their health and wellbeing. Whether by pursuing a more active lifestyle, making physical activity a priority and an essential part of everyday living, or supporting efforts in local communities that increase access to sports and physical fitness opportunities for all, participating in physical activities leads to a healthier lifestyle.

Physical activity is one of the best tools we have to help combat chronic diseases experienced by over half of all Americans. Even a single session of moderate-to-vigorous physical activity can boost your mood, sharpen your focus, reduce your stress, and improve your sleep. More regular physical activity—over months or years—can contribute to a reduced risk of depression, heart disease, several types of cancer, dementia, type 2 diabetes, and obesity.

No matter our age or ability, the more that we can make regular physical activity and participation in sports a part of our lives, the better off both we and our Nation will be. Greater amounts of physical activity can have positive effects in every stage of life and lead to better overall health outcomes for both children and adults, including those with disabilities. The Department of Health and Human Services' Move Your Way campaign provides helpful tips to encourage children and adults to meet the recommendations from the Physical Activity Guidelines for Americans. The Centers for Disease Control and Prevention's Active People, Healthy Nation initiative provides a blueprint for building active communities to make it easier for all Americans to attain the physical activity they need, with a goal of getting 27 million more Americans physically active by 2027.

By transcending differences and uniting in celebration of physical activity, healthy competition, and shared enjoyment, sports are a fun and engaging way to stay active and keep fit for people of all ages. For our Nation's youth, playing sports can also help to build confidence on and off the field, while team sports foster the added virtues of service to common causes and communal responsibility—win or lose, every game offers the opportunity to learn something new or hone your skills. Every athletic challenge is an avenue to greater mental and physical resilience. While social distancing has made participation in organized sports challenging, we can use this time to renew our focus on fundamental skills and training in preparation for a return to play, especially for young athletes.

Our Nation can and must do more to make sure that every child has the opportunity to play sports and obtain the benefits that come with play, including greater physical fitness and better health. As we recover from the COVID-19 pandemic, it is more important than ever that we ensure equal access to sports and fitness activities for everyone. To that end, my Administration continues to promote programs that provide opportunities for all of our young people to play sports—regardless of their race, ethnicity, sex, sexual orientation, gender identity, religion, disability, or neighborhood—in support of the National Youth Sports Strategy.

I encourage every American to discover an enjoyable exercise activity that fits into their daily routine. It does not matter how you choose to be active—whether you are trying your hand at a new sport, exploring a local park, or going for a walk or a jog in your own neighborhood, physical activity holds the key to better health and wellness. During National Physical Fitness and Sports Month, let us all strive to be more active together.

NOW, THEREFORE, I, JOSEPH R. BIDEN JR., President of the United States of America, by virtue of the authority vested in me by the Constitution and the laws of the United States, do hereby proclaim May 2021 as National Physical Fitness and Sports Month. I call upon the people of the United States to make daily physical activity a priority, to support efforts to increase access to sports opportunities in their communities, and to pursue physical fitness as an essential part of healthy living.

IN WITNESS WHEREOF, I have hereunto set my hand this thirtieth day of April, in the year of our Lord two thousand twenty-one, and of the Independence of the United States of America the two hundred and forty-fifth.

[FR Doc. 2021-09591

Filed 5-4-21; 8:45 am]

Billing code 3295-F1-P